DEPARTMENT OF THE INTERIOR

National Park Service

[NPS-WASO-ONAA-31167; PPWOWMADY0-PPMPSAS1Y.Y00000]

Indian Youth Service Corps Program Draft Guidelines and Tribal Consultations

AGENCY: National Park Service, Interior.

ACTION: Notice of Tribal consultations and availability of draft guidelines.

SUMMARY: In accordance with the John S. McCain III 21st Century Conservation Service Corps Act, the National Park Service (NPS) is giving notice that the Department of the Interior is holding consultation with Tribes, Alaska Native corporations, and the Native Hawaiian community to announce the availability of draft guidelines for the Departments of Agriculture, Commerce, and Interior to implement the Indian Youth Service Corps Program. This notice provides a link to the draft guidelines and provides information for how to register for each of the consultation sessions.

DATES: The Department of the Interior will hold consultation sessions on the dates listed in the SUPPLEMENTARY INFORMATION section of this notice. Written comments on the draft guidelines will be accepted until 11:59 ET December 17, 2021.

ADDRESSES: The draft guidelines are available at the Office of Native American Affairs' website at https://www.nps.gov/orgs/1015/index.htm. Tribes, Alaska Native corporations, and leaders of Native Hawaiian organizations may submit written comments to onaa_program@nps.gov. Please see the SUPPLEMENTARY INFORMATION section of this notice for information on how to register for the consultation sessions.

FOR FURTHER INFORMATION CONTACT: For information concerning these draft guidelines, contact George McDonald, Chief, Youth Programs Division, NPS, at george_mcdonald@nps.gov, or by telephone at (202) 997-5189, or Genevieve Giaccardo, Chief of Staff, Bureau of Indian Affairs, at genevieve.giaccardo@bia.gov, or by telephone at (202) 208-3587.

SUPPLEMENTARY INFORMATION:

Background

The John D. Dingell, Jr. Conservation, Management, and Recreation Act (Pub. L. 116-9, March 2019) established the John S. McCain III 21st Century Conservation Service Corps Act (21 CSC Act) that amends and expands the Public Lands Corps Act. Contained within the 21 CSC Act is the establishment of the Indian Youth Service Corps (IYSC) Program. The intent of the IYSC Program is to provide a direct benefit to members of federally recognized Indian Tribes or Alaska Native corporations. The IYSC Program will provide meaningful education, employment, and training opportunities to its participants through conservation projects on eligible service land, which includes public lands, Indian lands, and Hawaiian homelands.

While the Public Land Corps is established in the Departments of Agriculture and Commerce in addition to the Department of the Interior, the Act specifically charges the Secretary of the Interior with issuing guidelines for the management of the Indian Youth Service Corps (16 U.S.C. 1727b(c)).

Consultation

The Department invites Tribes, Alaska Native corporations, and the Native Hawaiian community to consult on the draft guidelines.

• Consultation for all Tribes east of the Mississippi River:

○ Tuesday, November 30, 2021

○ 3 p.m. to 5 p.m. ET

○ Please register in advance at: https://www.zoomgov.com/meeting/register/vJIsce-qrjgrHR9_-5h-9vtljHz4Z6TDrVE

• Consultation for all Tribes west of the Mississippi River and Alaska Native corporations:

○ Thursday, December 2, 2021

○ 3 p.m. to 5 p.m. ET

○ Please register in advance at: https://www.zoomgov.com/meeting/register/vJIscumsrD8rHrvg9RUg-p5LnLRuZLfpkIo

• Consultation for Native Hawaiian Organizations:

○ Thursday, December 9, 2021

○ 4 p.m. to 6 p.m. ET

○ Please register in advance at: https://www.zoomgov.com/meeting/register/vJItce2hqDsiG4qyOuAZyPjzqd020qVcYZI

Written Comments

Tribes are also invited to submit written comments by the deadline listed in the DATES section of this notice.

Public Disclosure of Comments: Before including your address, telephone number, email address, or other personal identifying information in your comment, you should be aware that your entire comment—including your personal identifying information—may be made publicly available at any time. While you may ask us in your comment to withhold your personal identifying information from public review, we cannot guarantee that we will be able to do so.

Authority: 16 U.S.C. 1727b.

Shawn Benge,
Deputy Director, Operations, Exercising the Delegated Authority of the Director, National Park Service.

[FR Doc. 2021-23630 Filed 10-28-21; 8:45 am]

BILLING CODE 4312-52-P